DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of the next meeting of the Marine Protected Areas Federal Advisory Committee (MPAFAC) in Portland, Maine.

DATES: The meeting will be held Tuesday, May 17, 2005 from 8:30 a.m. to 5 p.m., Wednesday, May 18, 2005 from 8 a.m. to 5 p.m., and Thursday, May 19, 2005 from 8 a.m. to 5 p.m. These times and the agenda topics described below may be subject to change. Refer to the Web page listed below for the most up-to-date meeting agenda.

ADDRESSES: The meeting will be held at the Doubletree Hotel, 1230 Congress Street, Portland, Maine 04192.

FOR FURTHER INFORMATION CONTACT: Lauren Wenzel, Designated Federal Officer, MPAFAC, National Marine Protected Areas Center, 1305 East-West Highway, Silver Spring, Maryland 20910. (Phone: 301-713-3100 x136, Fax: 301-713-3110); e-mail: lauren.wenzel@noaa.gov; or visit the National MPA Center Web site at http://www.mpa.gov.

SUPPLEMENTARY INFORMATION: The MPAFAC, composed of external, knowledgeable representatives of stakeholder groups, was established by the Department of Commerce to provide advice to the Secretaries of Commerce and the Interior on implementation of Section 4 of Executive Order 13158 on MPAs. The meeting will be open to public participation, with a one hour and fifteen minute time period set aside from 3:45 p.m. to 5 p.m. on Tuesday, May 17, 2005, and fifty minutes set aside from 8:10 a.m. to 9 a.m. on Thursday, May 19, 2005 for the Committee to receive verbal comments or questions from the public. In general, each individual or group making a verbal presentation will be limited to a total time of five (5) minutes. Copies of written statements should be submitted to the Designated Federal Official by Friday, May 13, 2005.

Matters To Be Considered: On Tuesday, May 17, the Committee will hear from a panel representing sportfishing perspectives on the national system of marine protected areas and representatives of two regional fishery management councils. On Tuesday afternoon and Wednesday the Committee will review and discuss the Committee's recommendations as summarized in a draft report to the Departments of Commerce and the Interior. On Thursday, May 19, the Committee will continue its consideration of recommendations and discuss the next charge to the Committee.

Dated: April 7, 2005.
Eldon Hout,
Director, Office of Ocean and Coastal Resource Management.

[FR Doc. 05-7942 Filed 4-19-05; 8:45 am]

BILLING CODE 3510-08-P